DEPARTMENT OF TRANSPORTATION

Federal Aviation Administration

14 CFR Part 71

[Docket No. FAA-2003-14656; Airspace Docket No. 03-ACE-25]

Proposed Establishment of Class E Airspace; Brookfield, MO

AGENCY: Federal Aviation Administration (FAA), DOT.

ACTION: Notice of proposed rulemaking; correction.

SUMMARY: This action corrects a notice of proposed rulemaking that was published in the Federal Register on Monday, May 5, 2003, (68 FR 23622) (FR Doc. 03-11031). It corrects an error in the legal description of the proposed Brookfield, MO Class E airspace.

DATES: Comments for inclusion in the Rules Docket must be received on or before June 10, 2003.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 03-11031 published on Monday, May 5, 2003, (68 FR 23622) proposed to establish Class E airspace at Brookfield, MO. The proposed airspace was to protect aircraft execuiting newly established instrument approach procedures at North Central Missouri Regional Airport, Brookfield, MO. The format of the legal description of the Brookfield, MO Class E airspace area was not in accordance with FAA Order 74000.2E, PROCEDURES FOR HANDLING AIRSPACE MATTERS and was published incorrently.

Accordingly, pursuant to the authority delegated to me, the Brookfield, MO Class E airspace, as published in the Federal Register on Monday, May 5, 2003, (68 FR 23622), [FR Doc. 03-11031], is corrected as follows:

§ 71.1 [Corrected]

On page 23623, Column 3, second paragraph from the bottom, change “North Central Missouri Regional Airport, MO” to read “Brookfield, North Central Missouri Regional Airport, MO.”

Issued in Kansas City, MO, on May 8, 2003.
David W. Hope,
Acting Manager, Air Traffic Division, Central Region.

[FR Doc. 03-12378 Filed 5-16-03; 8:45 am]

BILLING CODE 4910-13-M